DEPARTMENT OF VETERANS AFFAIRS

Advisory Committee on Homeless Veterans, Notice of Meeting

The Department of Veterans Affairs (VA) gives notice under the Federal Advisory Committee Act, 38 U.S.C. App. 2, that a meeting of the Advisory Committee on Homeless Veterans will be held on February 13-15, 2013. On February 13, the Committee will meet in Room 530 at the Department of Veterans Affairs, 810 Vermont Avenue NW., Washington, DC, from 10:30 a.m. to 5 p.m. On February 14-15, the Committee will meet at 1722 Eye Street NW., Washington DC, from 8 a.m. on both days until 4 p.m. on February 15 and noon on February 16. The meeting is open to the public.

The purpose of the Committee is to provide the Secretary of Veterans Affairs with an on-going assessment of the effectiveness of the policies, organizational structures, and services of the Department in assisting homeless Veterans. The Committee shall assemble and review information relating to the needs of homeless Veterans and provide on-going advice on the most appropriate means of providing assistance to homeless Veterans. The Committee will make recommendations to the Secretary regarding such activities.

On February 13, the agenda will include briefings from VA and other officials regarding services for homeless Veterans. The Committee will also receive briefings on the annual report.

On February 14, the Committee will continue to receive briefings from VA and other officials regarding services for homeless Veterans. The Committee then will discuss items for its upcoming annual report and recommendations to the Secretary.

On February 15 the Committee will begin drafting items and recommendations for its upcoming annual report to the Secretary.

No time will be allocated at this meeting for receiving oral presentations from the public. Interested parties should provide written comments on issues affecting homeless Veterans for review by the Committee to Mr. Pete Dougherty, Designated Federal Officer, Homeless Veterans Initiative Office (075D), Department of Veterans Affairs, 1722 Eye Street NW., Washington, DC 20006, or email to pete.dougherty@va.gov. Individuals who wish to attend the meeting should contact Mr. Dougherty at (202) 461-1857.

Dated: January 24, 2013.
By Direction of the Secretary.
Vivian Drake,
Committee Management Officer.

[FR Doc. 2013-01907 Filed 1-29-13; 8:45 am]

BILLING CODE 8320-01-P